DEPARTMENT OF HOMELAND SECURITY

Federal Emergency Management Agency

44 CFR Part 67

[Docket No. FEMA-D-7568]

Proposed Flood Elevation Determinations

AGENCY: Federal Emergency Management Agency (FEMA), Emergency Preparedness and Response Directorate, Department of Homeland Security.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Mary Jean Pajak, P.E., FEMA, 500 C Street SW., Washington, DC 20472, (202) 646-2831.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified base flood elevations are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
ILLINOIS
DuPage County
Des Plaines River | At southern County boundary along Chicago Sanitary Canal | None | *594 | DuPage County (Unincorporated Areas), Village of Lemont
| At southern County boundary along Chicago Sanitary Canal | None | *595 |
West Branch Tributary No. 4 | Approximately 600 feet upstream of Timber Lane | None | *744 | Village of Carol Stream
| Approximately 925 feet upstream of Timber Lane | None | *744 |
East Branch Tributary No. 2 | Approximately 50 feet upstream of the confluence with East Branch DuPage River | *693 | *694 | DuPage County (Unincorporated Areas), Village of Glendale Heights
| Approximately 1,400 feet upstream of Main Street | None | *723 |
Ginger Creek | At confluence with Salt Creek | *656 | *655 | DuPage County (Unincorporated Areas), Village of Oak Brook
| Approximately 1,000 feet upstream of Myers Road | *700 | *699
Mays Lake Tributary | Approximately 1,350 feet upstream of confluence with Ginger Creek | *670 | *672 | Village of Oak Brook
| Approximately 1,565 feet upstream of Mayslake Culvert | None | *718 |
Briarwood Ditch | Approximately 1,200 feet upstream of confluence with Ginger Creek | *670 | *671 | Village of Oak Brook
| Approximately 500 feet upstream of Kingston Road | *670 | *672 |
Midwest Club Tributary | At confluence with Ginger Creek | *699 | *696 | DuPage County (Unincorporated Areas), Village of Oak Brook
| Approximately 550 feet upstream of Oak Brook Road | None | *702 |
Lombard Tributary | Approximately 500 feet upstream of confluence with Ginger | *700 | *701 | Village of Oak Brook
| Approximately 670 feet upstream of Royal Valley Drive | *700 | *703 |
Heritage Oaks Tributary | At the confluence with Ginger Creek | *700 | *699 | Village of Oak Brook
| Approximately 750 feet upstream of Ginger Creek | *700 | *699 |
Salt Creek | Approximately 100 feet upstream of York Road | *646 | *645 | Village of Oak Brook, City of Oak Brook Terrace
| Just downstream of Roosevelt Road | *663 | *661 |
Midwest Club Tributary Ponding Area | Approximately 50 feet Area southwest of the intersection of CT 20 and Midwest Club Parkway | None | *702 | Village of Oak Brook
DuPage County (Unincorporated Areas)
Maps available for inspection at the DuPage County Department of Development and Environmental Concerns, 2nd floor, 421 North County Farm Road, Wheaton, Illinois.
Send comments to Mr. William Brown, Senior Project Engineer, DuPage County Department of Development and Environmental Concerns, 2nd floor, 421 North County Farm Road, Wheaton, Illinois 60187.
Village of Carol Stream
Maps available for inspection at the DuPage County Department of Development and Environmental Concerns, 2nd floor, 421 North County Farm Road, Wheaton, Illinois.
Send comments to the Honorable Ross Ferraro, Mayor of the Village of Carol Stream, 500 North Gary Avenue, Carol Stream, Illinois 690188-1899.
Village of Glendale Heights
Maps available for inspection at the DuPage County Department of Development and Environmental Concerns, 2nd floor, 421 North County Farm Road, Wheaton, Illinois.
Send comments to Ms. Linda Jackson, Glendale Heights Village President, 300 Civic Center Plaza, Glendale Heights, Illinois 60139.
Village of Oak Brook
Maps available for inspection at the DuPage County Department of Development and Environmental Concerns, 2nd floor, 421 North County Farm Road, Wheaton, Illinois.
Send comments to Ms. Karen Bushy, Oak Brook Village President, 1200 Oak Brook Road, Oak Brook, Illinois 60523.
City of Oakbrook Terrace
Maps available for inspection at the DuPage County Department of Development and Environmental Concerns, 2nd floor, 421 North County Farm Road, Wheaton, Illinois.
Send comments to the Honorable Thomas S. Mazaika, Mayor of the City of Oakbrook Terrace, 17W275 Butterfield Road, Oakbrook Terrace, Illinois 60181.
Village of Lemont
Maps available for inspection at the DuPage County Department of Development and Environmental Concerns, 2nd floor, 421 North County Farm Road, Wheaton, Illinois.
Send comments to the Honorable John F. Piazza, Mayor of the Village of Lemont, 418 Main Street, Lemont, Illinois 60439.
NORTH CAROLINA
Mecklenburg County
Back Creek | Approximately 125 feet downstream of the confluence of Back Creek Tributary | •615 | •614 | City of Charlotte, Mecklenburg County (Unincorporated Areas)
| Approximately 0.7 mile upstream of W.T. Harris Boulevard | None | •714 |
Back Creek Tributary | At the confluence with Back Creek | •616 | •617 | Mecklenburg County (Unincorporated Areas)
| Approximately 250 feet upstream of Back Creek Church Road | None | •695 |
Beaverdam Creek | At the confluence with Lake Wylie | •569 | •571 | Mecklenburg County (Unincorporated Areas)
| Approximately 2 miles upstream of Dixie River Road | None | •639 |
Beaverdam Creek Tributary | At the confluence with Beaverdam Creek | •578 | •576 | Mecklenburg County (Unincorporated Areas)
| Approximately 1.2 miles upstream of the confluence with Beaverdam Creek | None | •603 |
Tributary 1 | At the confluence with Beaverdam Creek | •572 | •574 | Mecklenburg County (Unincorporated Areas)
| Approximately 0.3 mile upstream of the confluence with Beaverdam Creek | None | •580 |
Blankmanship Branch | At the South Carolina State boundary | •610 | •616 | Mecklenburg County (Unincorporated Areas)
| Approximately 50 feet upstream of Steele Creek Road | None | •636 |
Briar Creek | At the confluence with Little Sugar Creek | •591 | •593 | City of Charlotte
| Approximately 500 feet upstream of Plaza Road | None | •708 |
Tributary 1 | At the confluence with Briar Creek | •596 | •594 | City of Charlotte
| Approximately 400 feet upstream of Colony Road | None | •618 |
Tributary 2 | At the confluence with Briar Creek | •688 | •692 | City of Charlotte
| Approximately 530 feet upstream of Galway Drive Creek | None | •707 |
Caldwell Creek | At the Cabarrus County Line | •624 | •623 | Mecklenburg County (Unincorporated Areas)
| Approximately 0.9 mile upstream of Cabarrus County Line | None | •664 |
Caldwell Station | At the confluence with McDowell Creek | •702 | •699 | Town of Huntersville, Mecklenburg County (Unincorporated Areas)
| Approximately 0.4 mile upstream of Statesville Road | None | •719 |
Campbell Creek | At the confluence with McAlpine Creek | •589 | •592 | City of Charlotte
| Approximately 0.4 mile upstream of Statesville Road | None | •715 |
Cane Creek | At the confluence with South Prong Clarke Creek | •650 | •651 | Town of Huntersville, Mecklenburg County (Unincorporated Areas)
| Approximately 2.2 miles upstream of the confluence with South Prong Clark Creek | None | •700 |
Catawba River | Approximately 1.8 miles upstream of York County/South Carolina boundary | •571 | •570 | Mecklenburg County (Unincorporated Areas)
| At Cowans Ford Dam | None | •670 |
Tributary 1 | At the confluence with Catawba River | •568 | •574 | Mecklenburg County (Unincorporated Areas)
| Approximately 1.1 miles upstream of the confluence with the Catawba River | None | •600 |
Tributary 2 | Approximately 0.6 mile upstream of the confluence of Catawba River | •579 | •578 | Mecklenburg County (Unincorporated Areas)
| Approximately 0.7 mile upstream of Hardwood Lane | •635 | •634 |
Tributary 3 | At the confluence with Catawba River | None | •664 | Mecklenburg County (Unincorporated Areas)
| Approximately 75 feet upstream of Cashion Road | None | •691 |
Clarke Creek | Approximately 1,680 feet downstream of the confluence of Ramah Creek | None | •630 | Mecklenburg County (Unincorporated Areas)
| At the confluence of South Prong Clarke Creek/North Prong Clarke Creek | •636 | •637 |
Tributary | Approximately 0.4 mile downstream of Highland Creek Parkway | •631 | •630 | City of Charlotte, Mecklenburg County (Unincorporated Areas)
| Approximately 1.1 miles upstream of Highland Creek Parkway | None | •708 |
Clarks Creek | At the confluence of Mallard Creek | •629 | •631 | City of Charlotte, Mecklenburg County (Unincorporated Areas)
| Approximately 530 feet upstream of Dearmon Road | None | •739 |
Tributary 1 | At the confluence with Clarks Creek | •714 | •710 | City of Charlotte, Mecklenburg County (Unincorporated Areas)
| Approximately 0.5 mile upstream of Hucks Road | •742 | •741 |
Tributary 1A | At the confluence with Clarks Creek Tributary 1 | •726 | •727 | City of Charlotte, Mecklenburg County (Unincorporated Areas)
| Approximately 1,900 feet upstream of Davis Lake Parkway | None | •780 |
Clear Creek | At County boundary | None | •535 | Town of Mint Hill, Mecklenburg County (Unincorporated Areas)
| Approximately 1.0 mile upstream of the confluence of Clear Creek Tributary | None | •661 |
Tributary | Approximately 400 feet upstream of the confluence with Clear Creek | •622 | •624 | Town of Mint Hill, Mecklenburg County (Unincorporated Areas)
| Approximately 1,650 feet upstream of the Truelight Church Road | •684 | •683 |
Clems Branch | At the Lancaster County boundary | •563 | •567 | Mecklenburg County (Unincorporated Areas)
| Approximately 150 feet upstream of Lancaster Highway | None | •588 |
Coffey Creek | At the confluence with Sugar Creek | •571 | •575 | City of Charlotte, Mecklenburg County (Unincorporated Areas)
| Approximately 0.7 mile upstream of West Boulevard | •662 | •663 |
Dairy Branch | Approximately 250 feet upstream of confluence with Little Sugar Creek | •620 | •622 | City of Charlotte
| Approximately 170 feet upstream of Scott Avenue | None | •657 |
Derita Branch | At confluence with Little Sugar Creek | •692 | •690 | City of Charlotte
| Approximately 0.6 mile upstream of West Craighead Road | None | •729 |
Dixon Branch | At the confluence with Long Creek | •710 | •711 | Mecklenburg County (Unincorporated Areas)
| Approximately 1,450 feet upstream of the confluence of Dixon Branch Tributary | •732 | •731 |
Tributary | At the confluence with Dixon Branch | •728 | •725 | Mecklenburg County (Unincorporated Areas)
| Approximately 0.27 mile upstream of Statesville Road | •751 | •749 |
Doby Creek | At the confluence with Mallard Creek | •605 | •610 | City of Charlotte
| Approximately 1.4 miles upstream of Governors Village Middle School | None | •708 |
Tributary | At the confluence with Doby Creek | • 611 | • 612 | City of Charlotte, Mecklenburg County (Unincorporated Areas)
| Approximately 640 feet upstream of IBM Drive | None | •655 |
Duck Creek | At the County boundary | •574 | •575 | Mecklenburg County (Unincorporated Areas)
| Approximately 1.0 mile upstream of County boundary | None | •607 |
Edwards Branch | At the confluence with Briar Creek | •651 | •656 | City of Charlotte
| Approximately 400 feet upstream of Sheffield Drive | None | •700 |
Ferrelltown Creek | At the confluence with Clarke Creek | •634 | •633 | Mecklenburg County (Unincorporated Areas)
| Approximately 1.4 miles upstream of the confluence with Clarke Creek | •669 | •666 |
Flat Branch | At the confluence with Sixmile Creek | •584 | •589 | City of Charlotte, Mecklenburg County (Unincorporated Areas)
| Approximately 0.8 mile upstream of Tom Short Road | None | •640 |
Fourmile Creek | At the confluence with McAlpine Creek | •538 | •541 | City of Charlotte, Town of Matthews, Mecklenburg County (Unincorporated Areas)
| At downstream side of E. John Street | •668 | •666 |
Gar Creek | Approximately 1,250 feet downstream of Beatties Ford Road | •665 | •664 | Mecklenburg County (Unincorporated Areas)
| Approximately 1,300 feet upstream of Kerns Road | •711 | •709 |
Goose Creek | At the County boundary | •624 | •627 | Town of Mint Hill, Mecklenburg County (Unincorporated Areas)
| Approximately 1.2 miles upstream of Lawyers Road | •675 | •682 |
Gum Branch | At the confluence with Long Creek | •639 | •641 | City of Charlotte, Mecklenburg County (Unincorporated Areas)
| Approximately 350 feet upstream of Old Plank Road | None | •712 |
Gutter Branch | At the confluence with Long Creek | •652 | •649 | Mecklenburg County (Unincorporated Areas)
| Approximately 0.9 mile upstream of Oakdale Road | None | •721 |
Irvins Creek | At the confluence with McAlpine Creek | •581 | •584 | City of Charlotte, Town of Mint Hill, Town of Matthews, Mecklenburg County (Unincorporated Areas)
| Approximately 350 feet upstream of Lawyers Road | None | •709 |
Tributary 1 | At the confluence with Irvins Creek | •591 | •587 | City of Charlotte, Town of Matthews
| Approximately 800 feet upstream of Windsor Park bridge | •667 | •671 |
Tributary 2 | At the confluence with Irvins Creek | •668 | •670 | Town of Mint Hill
| Approximately 0.6 mile upstream of Lawyers Road | •701 | •700 |
Irwin Creek | At the confluence with Sugar Creek | •602 | •607 | City of Charlotte
| Approximately 0.9 mile upstream of Nevin Road | None | •739 |
Tributary 1 | At the confluence with Irwin Creek | •612 | •615 | City of Charlotte
| Approximately 0.6 mile upstream of Fieldcrest Road | None | •647 |
Kennedy Branch | At the confluence with Irwin Creek | •669 | •665 | City of Charlotte
| Approximately 180 feet upstream of Slater Road | None | •731 |
Kings Branch | At the confluence with Sugar Creek | •551 | •552 | City of Charlotte
| Approximately 150 feet upstream of Interstate 77 | •639 | •631 |
Little Hope Creek | Approximately 400 feet upstream of the confluence with Little Sugar Creek | •590 | •593 | City of Charlotte
| Approximately 200 feet upstream of Woodlawn Road | •622 | •627 |
Little Hope Creek Tributary | At the confluence with Little Hope Creek | •614 | •615 | City of Charlotte
| Approximately 260 feet upstream of Bradbury Drive | None | •623 |
Little Paw Creek | Approximately 1,300 feet upstream of the confluence with Lake Wylie | •575 | •573 | Mecklenburg County (Unincorporated Areas)
| Approximately 0.8 mile upstream of Mt. Olive Church Road | None | •655 |
Little Sugar Creek | At the North Carolina/South Carolina State Border | •537 | •538 | City of Charlotte, Mecklenburg County (Unincorporated Areas)
| Approximately 750 feet upstream of Kentbrook Drive | None | •720 |
Long Creek | At the confluence with Catawba River | •572 | •578 | City of Charlotte, Mecklenburg County (Unincorporated Areas)
| Approximately 0.46 mile upstream of Statesville Road | •756 | •754 |
Tributary 1 | At the confluence with Long Creek | •577 | •589 | Mecklenburg County (Unincorporated Areas)
| Approximately 0.6 mile upstream of confluence with Long Creek | None | •589 |
Tributary 2 | At the confluence with Long Creek | •629 | •628 | City of Charlotte
| Approximately 1,950 feet upstream of the confluence with Long Creek | •649 | •652 |
Tributary 3 | At the confluence with Long Creek | •638 | •639 | City of Charlotte
| Approximately 0.5 mile upstream of Gum Branch Road | None | •639 |
Mallard Creek | Approximately 2.6 miles downstream of Pavilion Drive | •574 | •578 | City of Charlotte, Mecklenburg County (Unincorporated Areas)
| Approximately 450 feet upstream of Old Potters Road | None | •733 |
Tributary | At the confluence with Mallard Creek | •672 | •673 | City of Charlotte
| Approximately 1,500 feet upstream of Hubbard Road | None | •683 |
McAlpine Creek | At the State boundary | •525 | •527 | City of Charlotte, Mecklenburg County (Unincorporated Areas)/Town of Mint Hill
| Approximately 0.5 mile upstream of Marlwood Circle | •693 | •690 |
Tributary 1 | At the confluence with McAlpine Creek | •535 | •539 | City of Charlotte, Mecklenburg County (Unincorporated Areas)
| Approximately 0.7 mile upstream of U.S. Highway 521 | None | •535 |
Tributary 1A | At the confluence with McAlpine Creek Tributary 1 | •535 | •539 | Mecklenburg County (Unicorporated Areas)
| Approximately 500 feet upstream of Ballantyne Commons Parkway | None | •568 |
Tributary 3 | At the confluence with McAlpine Creek | •562 | •561 | City of Charlotte
| Approxmately 550 feet upstream of Providence Road | None | •596 |
Tributary 6 | At the confluence with McAlpine Creek | •669 | •668 | City of Charlotte, Mecklenburg County (Unincorporated Areas)
| Approximately 1.1 miles upstream of the confluence with McAlpine Creek | •698 | •702 |
McCullough Creek | At the confluence with Sugar Creek | •537 | •540 | City of Charlotte, Mecklenburg County (Unincorporated Areas)
| Approximately 450 feet upstream of Nations Ford Road | None | •565 |
McDowell Creek | At the confluence with Mountain Island Lake | •656 | •655 | Towns of Huntersville and Cornelius, Mecklenburg County (Unincorporated Areas)
| Approximately 400 feet upstream of Statesville Road | None | •741 |
Tributary 1 | At the confluence with McDowell Creek | •662 | •665 | Mecklenburg County (Unincorporated Areas)
| Approximately 0.7 mile upstream of McIlwaine Road | •674 | •671 |
Tributary 2 | At the confluence with McDowell Creek | •663 | •666 | Mecklenburg County (Unincorporated Areas)
| Approximately 0.5 mile upstream of the confluence with McDowell Creek | None | •668 |
McIntyre Creek | Approximately 250 feet upstream of the confluence with Long Creek | •663 | •662 | City of Charlotte, Mecklenburg County (Unincorporated Areas)
| Approximately 520 feet upstream of Lawnmeadow Drive | •746 | •745 |
McKee Creek | Approximately 1,650 feet downstream of Reedy Creek Road | None | 602 | Mecklenburg County (Unincorporated Areas)
| Approximately 600 feet upstream of Denbur Drive | •663 | •662 |
McMullen Creek | At the confluence with McAlpine Creek | •532 | •534 | City of Charlotte, Town of Pineville, Mecklenburg County (Unincorporated Areas)
| Approximately 0.8 mile upstream of Addison Drive | •684 | •685 |
Tributary | At the confluence with McMullen Creek | •666 | •667 | City of Charlotte
| Approximately 150 feet upstream of S. Sharon Amity Road | •686 | •687 |
North Prong Clarke Creek | At the confluence with Clarke Creek | •636 | •637 | Town of Huntersville, Mecklenburg County (Unincorporated Areas)
| Approximately 1,500 feet upstream of Ramah Church Road | •682 | •685 |
Paw Creek | At First Norfolk Southern Railroad Crossing | None | •572 | City of Charlotte, Mecklenburg County (Unincorporated Areas)
| Approximately 0.06 mile upstream of Second Norfolk Southern Railroad Crossing | None | •717 |
Tributary | At the confluence with Paw Creek | •610 | •607 | Mecklenburg County (Unincorporated Areas)
| Approximately 0.8 mile upstream of the confluence with Paw Creek | None | •655 |
Tributary 1A | At the confluence with Paw Creek | •645 | •647 | City of Charlotte
| Approximately 50 feet upstream of Freedom Drive | None | •674 |
Polk Ditch | At the confluence with Walker Branch | •570 | •569 | City of Charlotte, Mecklenburg County (Unincorporated Areas)
| Approximately 300 feet upstream of Highway 49 | None | •602 |
Ramah Creek | At the confluence with Clarke Creek | •623 | •630 | Mecklenburg County (Unincorporated Areas)
| Approximately 300 feet upstream of Highway 73 | None | •722 |
Rea Branch | At the confluence with McAlpine Creek | •546 | •547 | City of Charlotte
| Approximately 210 feet upstream of Sequoia Red Lane | •564 | •568 |
Reedy Creek | Approximately 0.4 mile downstream of Reedy Creek Road | •602 | •608 | City of Charlotte, Mecklenburg County (Unincorporated Areas)
| Approximately 0.75 mile upstream of Plaza Road Extension | •663 | •664 |
Tributary 1 | At the County boundary | •624 | •625 | Mecklenburg County (Unincorporated Areas)
| Approximately 1,680 feet upstream of County boundary | None | •634 |
Tributary 2 | At the confluence with Reedy Creek | •624 | •626 | Mecklenburg County (Unincorporated Areas)
| Approximately 1.2 miles upstream of Robinson Church Road | None | •664 |
Tributary 3 | At the confluence with Reedy Creek | •640 | •639 | City of Charlotte, Mecklenburg County (Unincorporated Areas)
| Approximately 100 feet upstream of Chapparall Lane | None | •710 |
Rocky Branch | At the confluence with Fourmile Creek | •559 | •558 | City of Charlotte
| Approximately 700 feet upstream of Providence Road | None | •627 |
Rocky River | Approximately 250 feet upstream of the confluence of West Branch Rocky River | •648 | •647 | Town of Davidson, Mecklenburg County (Unincorporated Areas)
| Approximately 2.3 miles upstream of East Rocky River Road | •682 | •687 |
Tributary | Approximately 560 feet downstream of Interstate 85 | •605 | •604 | Mecklenburg County (Unincorporated Areas)
| Approximately .5 mile upstream of Interstate 85 | None | •622 |
Sardis Branch | At the confluence with McAlpine Creek | •572 | •573 | City of Charlotte, Mecklenburg County (Unincorporated Areas)
| Approximately 810 feet upstream of Sardis Road | None | •636 |
Sherman Branch | At the confluence with Clear Creek | •573 | •571 | Mecklenburg County (Unincorporated Areas)
| Approximately 0.5 mile upstream of Cabarrus Road | •607 | •614 |
Sixmile Creek | At the Lancaster County/South Carolina boundary | •569 | •575 | City of Charlotte, Mecklenburg County (Unincorporated Areas)
| Approximately 0.6 mile upstream of Tiley Morris Road | •667 | •664 |
South Prong Clarke Creek | At the confluence with Clarke Creek | •636 | •637 | Mecklenburg County (Unincorporated Areas)
| Approximately 1.4 miles upstream of Asbury Chapel Road | •674 | •676 |
South Prong West Branch Rocky River | At the confluence with West Branch Rocky River | •654 | •656 | Town of Davidson, Mecklenburg County (Unincorporated Areas)
| Approximately 1.7 miles upstream of Davidson-Concorde Road | None | •706 |
Tributary | At the confluence with South Prong West Branch Rocky River | •676 | •680 | Mecklenburg County (Unincorporated Areas)
| Approximately 0.9 mile upstream of the confluence with South Prong West Branch Rocky River | None | •702 |
Steele Creek | At the State boundary | •571 | •569 | City of Charlotte, Mecklenburg County (Unincorporated Areas)
| Approximately 100 feet upstream of Brown-Grier Road | None | •628 |
Stevens Creek | At the Union County boundary | None | •627 | Town of Mint Hill, Mecklenburg County (Unincorporated Areas)
| Approximately 0.5 mile upstream of Thompson Road | None | •682 |
Tributary | At the confluence with Stevens Creek | •642 | •643 | Town of Mint Hill
| Approximately 0.5 mile upstream of Thompson Road | None | •662 |
Stewart Creek | At the confluence with Irwin Creek | •636 | •640 | City of Charlotte, Mecklenburg County (Unincorporated Areas)
| Approximately 650 feet upstream of Capps Hill Mine Road | None | •726 |
Tributary 1 | At the confluence with Stewart Creek | •636 | •640 | City of Charlotte
| Approximately 1,500 feet upstream of Berryhill Road | •662 | •663 |
Tributary 2 | At the confluence with Stewart Creek | •655 | •651 | City of Charlotte
| At the upstream side of Interstate 85 | None | •706 |
Tributary 3 | At the confluence with Stewart Creek | •676 | •675 | City of Charlotte
| Approximately 0.4 mile upstream of Hoskins Road | None | •724 |
Stony Creek | At the confluence with Mallard Creek | •585 | •591 | City of Charlotte, Mecklenburg County (Unincorporated Areas)
| Approximately 0.5 mile upstream of Mallard Creek Road | None | •701 |
Tributary | Approximately 650 feet upstream of the confluence with Stony Creek | •641 | •640 | City of Charlotte, Mecklenburg County (Unincorporated Areas)
| Approximately 1 mile upstream of Mallard Creek Road | None | •714 |
Stowe Branch | At the confluence with Lake Wylie | •570 | •571 | Mecklenburg County (Unincorporated Areas)
| Approximately 140 feet upstream of Shopton Road | None | •598 |
Sugar Creek | Approximately 0.8 mile downstream of the confluence of McCullough Branch | •536 | •538 | City of Charlotte, Town of Pineville, Mecklenburg County (Unincorporated Areas)
| At the confluence of Taggart Creek | •603 | •607 |
Swan Run | At the confluence with McAlpine Creek | •563 | •561 | City of Charlotte
| Approximately 1 mile upstream of Sharon View Road | •595 | •597 |
Taggart Creek | At the confluence with Sugar Creek | •603 | •607 | City of Charlotte, Mecklenburg County (Unincorporated Areas)
| At the upstream side of Denver Avenue | •687 | •682 |
Ticer Branch | At the confluence with Paw Creek | •577 | •578 | City of Charlotte, Mecklenburg County (Unincorporated Areas)
| Approximately 0.5 mile upstream of Wilkinson Boulevard | None | •645 |
Toby Creek | At the confluence with Mallard Creek | •595 | •599 | City of Charlotte
| Approximately 0.7 mile upstream of West Rocky River Road | •680 | •679 |
Torrence Creek | At the confluence with McDowell Creek | •671 | •672 | Town of Huntersville, Mecklenburg County (Unincorporated Areas)
| Approximately 0.5 mile upstream of I-77 | None | •733 |
Tributary 1 | At the confluence with Torrence Creek | •674 | •673 | Town of Huntersville, Mecklenburg County (Unincorporated Areas)
| Approximately 1,000 feet upstream of Statesville Road | None | •727 |
Tributary 2 | At the confluence with Torrence Creek | •677 | •678 | Town of Huntersville, Mecklenburg County (Unincorporated Areas)
| Approximately 400 feet upstream of I-77 | None | •721 |
Walker Branch | At the State boundary | •571 | •569 | Mecklenburg County (Unincorporated Areas)
| Approximately 0.3 mile upstream of Highway 49 | •597 | •596 |
Tributary | At the confluence with Walker Branch | •581 | •583 | City of Charlotte, Mecklenburg County (Unincorporated Areas)
| Approximately 2,500 feet upstream of Steele Creek Road | None | •609 |
West Branch Rocky River | Approximately 0.5 mile upstream of the confluence with Rocky River | •648 | •647 | Town of Davidson, Mecklenburg County (Unincorporated Areas)
| Approximately 1,200 feet upstream of Grey Road | None | •687 |
Tributary | At the confluence with West Branch Rocky River | •677 | •672 | Town of Davidson, Mecklenburg County (Unincorporated Areas)
| Approximately 900 feet upstream of Davis Road | None | •707 |
City of Charlotte
Maps available for inspection at the Mecklenburg County Stormwater Planning Department, 700 North Tryon Street, Charlotte, North Carolina.
Send comments to Ms. Pam Syfert, Charlotte City Manager, Government Center, 600 East 4th Street, Charlotte, North Carolina 28202.
Town of Cornelius
Maps available for inspection at the Cornelius Planning Department, 21445 Catawba Avenue, Cornelius, North Carolina.
Send comments to Mr. Bob Race, Cornelius Town Manager, 21445 Catawba Avenue, Cornelius, North Carolina 28031.
Town of Davidson
Maps available for inspection at the Davidson Town Hall/ Planning Department, 216 South Main Street, Davidson, North Carolina.
Send comments to The Honorable Randall Kincaid, Mayor of the Town of Davidson, P.O. Box 37, Davidson, North Carolina 28036.
Town of Huntersville
Maps available for inspection at the Town of Huntersville Planning Department, 101 Huntersville “ Concord Road, Huntersville, North Carolina.
Send comments to The Honorable Kim Phillips, Mayor of the Town of Huntersville, 9017 Taunton Drive, Huntersville, North Carolina 28078.
Town of Matthews
Maps available for inspection at the Matthews Town Hall, 232 Matthews Station Street, Matthews, North Carolina.
Send comments to The Honorable R. Lee Myers, Mayor of the Town of Matthews, 232 Matthews Station Street, Matthews, North Carolina 28105.
Mecklenburg County (Unincorporated Areas)
Maps available for inspection at the Mecklenburg County Storm Water Planning Department, 700 North Tryon Street, Charlotte, North Carolina.
Send comments to Mr. Harry Jones, Sr., Mecklenburg County Manager, 600 East 4th Street, 11th Floor, Charlotte, North Carolina 28202.
Town of Mint Hill
Maps available for inspection at the Mint Hill Town Hall, 7151 Matthews Mint Hill Road, Mint Hill, North Carolina.
Send comments to The Honorable Ted H. Biggers, Mayor of the Town of Mint Hill, P.O. Box 23457, Mint Hill, North Carolina 28227.
Town of Pineville
Maps available for inspection at the Mecklenburg County Storm Water Planning Department, 700 North Tryon Street, Charlotte, North Carolina.
Send comments to The Honorable George Fowler, Mayor of the Town of Pineville, 118 College Street, Pineville, North Carolina 28134.
NORTH CAROLINA
Wilson County
Contentnea Creek | At the confluence of Hominy Swamp | •78 | •79 | City of Wilson, Wilson County (Unincorporated Areas)
| Approximately 0.6 mile upstream of Highway 581 | None | •137 |
Hominy Swamp | At the confluence with Contentnea Creek | •78 | •79 | City of Wilson, Wilson County (Unincorporated Areas)
| Approximately 550 feet upstream of Airport Drive | None | •149
Little Hominy Swamp | At the confluence with Hominy Swamp | •114 | •113 | City of Wilson, Wilson County (Unincorporated Areas)
| Approximately 450 feet upstream of George Dew Road | None | •145 |
Tributary 1 | Approximately 80 feet upstream of the confluence with Little Hominy Swamp | None | •127 | City of Wilson, Wilson County (Unincorporated Areas)
| Approximately 0.4 mile upstream of Stedman Drive | None | •147 |
Aycock Swamp | At the confluence with Black Creek | None | •71 | Wilson County (Unincorporated Areas)
| At the Wilson/Wayne County boundary | None | •76 |
Black Creek | Approximately 0.8 mile upstream of the confluence with Contentnea Creek | None | •69 | Towns of Black Creek and Lucama, Wilson County (Unincorporated Areas)
| Approximately 1,000 feet upstream of the confluence of Robin Swamp | None | •131 |
Bloomery Swamp Tributary 1 | Approximately 250 feet upstream of the confluence with Bloomery Swamp | None | •102 | City of Wilson, Wilson County (Unincorporated Areas)
| Approximately 0.5 mile upstream of Wilson Chistain Road | None | •134 |
Tributary 2 | Approximately 850 feet upstream of the confluence with Bloomery Swamp | None | •103 | City of Wilson, Wilson County (Unincorporated Areas)
| Approximately 1.6 miles upstream of the confluence with Bloomery Swamp | None | •130 |
Tributary 3 | Approximately 500 feet upstream of the confluence with Bloomery Swamp | •124 | •125 | City of Wilson, Wilson County (Unincorporated Areas)
| Approximately 0.3 mile upstream of Packhouse Road | None | •151 |
Goss Swamp | Approximately 1,300 feet upstream of the railroad | None | •62 | Town of Stantonsburg, Wilson County (Unincorporated Areas)
| Approximately 1,900 feet upstream of the confluence of Goss Swamp Tributary | None | •83 |
Tributary | At the confluence with Goss Swamp | None | •82 | Wilson County (Unincorporated Areas)
| Approximately 0.5 mile upstream of the confluence with Goss Swamp | None | •88 |
Great Swamp | At the confluence with Black Creek | None | •81 | Wilson County (Unincorporated Areas)
| Approximately 1,800 feet downstream of the confluence of Great Swamp Tributary 1 | None | •98 |
Tributary 1 | At the confluence with Great Swamp | None | •91 | Wilson County (Unincorporated Areas)
| At the Wilson/Wayne County boundary | None | •92 |
Hominy Swamp Tributary 1 | At the confluence with Hominy Swamp | •82 | •85 | City of Wilson, Wilson County (Unincorporated Areas)
| Approximately 0.9 mile upstream of Lane Street | None | •127 |
Tributary 2 | At the confluence with Hominy Swamp | •91 | •90 | City of Wilson, Wilson County (Unincorporated Areas)
| Approximately 100 feet upstream of Stantonsburg Road | None | •122 |
Shepard Branch | At the confluence with Contentnea Creek | •104 | •106 | Wilson County (Unincorporated Areas)
| Approximately 3,200 feet upstream of the confluence with Contentnea Creek | •104 | •106 |
Marsh Swamp | At the confluence with Contentnea Creek | •122 | •123 | Wilson County (Unincorporated Areas)
| Approximately 2.0 miles downstream of Rock Ridge Sims Road | •124 | •125 |
Little Swamp | At the confluence with Contentnea Creek | •108 | •111 | Wilson County (Unincorporated Areas)
| Approximately 0.8 mile upstream of the confluence with Contentnea Creek | •113 | •114 |
Bloomery Swamp | At the confluence with Contentnea Creek | •100 | •102 | City of Wilson, Wilson County (Unincorporated Areas)
| Approximately 0.8 mile upstream of the confluence with Contentnea Creek | •101 | •102 |
Wiggins Mill Tributary | At the confluence with Contentnea Creek | •98 | •99 | City of Wilson, Wilson County (Unincorporated Areas)
| Approximately 0.6 mile upstream of the confluence with Contentnea Creek | •98 | •99 |
Cattail Branch | Approximately 0.5 mile upstream of the confluence with White Swamp | None | •95 | Wilson County (Unincorporated Areas)
| At the confluence with White Swamp | None | •91 |
Cattail Swamp | Approximately 1.4 miles upstream of the confluence of Cattail Swamp Tributary | None | •103 | Wilson County (Unincorporated Areas)
| At the confluence with White Swamp | None | •82 |
Tributary 1 | Approximately 1.1 miles upstream of the confluence with Cattail Swamp | None | •103 | Wilson County (Unincorporated Areas)
| At the confluence with Cattail Swamp | None | •95
Town Creek | Approximately 300 feet downstream of the Wilson/Edgecombe County boundary | None | •73 | Town of Elm City, Wilson County (Unincorporated Areas)
| Approximately 0.4 mile downstream of Sharpe Store Road | None | •117 |
Tributary 1 | Approximately 0.2 mile downstream of Langley Road | None | •99 | Wilson County (Unincorporated Areas)
| At the confluence with Town Creek | None | •78 |
Tributary 2 | At the confluence with Town Creek | None | •73 | Wilson County (Unincorporated Areas)
| Approximately 0.4 mile upstream of Route 42 | None | •95 |
White Swamp | At the confluence with Town Creek | None | •80 | Wilson County (Unincorporated Areas)
| Approximately 0.5 mile upstream of the confluence of Cattail Branch | None | •94 |
Tributary | At the confluence with White Swamp | None | •85 | Wilson County (Unincorporated Areas)
| Approximately 0.8 mile upstream of the confluence with White Swamp | None | •90 |
Black Creek Tributary | Approximately 225 feet upstream of the confluence of Tributary to Black Creek Tributary | None | •104 | Town of Lucama, Wilson County (Unincorporated Areas)
| Approximately 2,085 feet upstream of the confluence of the Tributary to Black Creek Tributary | None | •107 |
Toisnot Swamp | Approximately 1,000 feet upstream of the railroad | None | •62 | City of Wilson, Town of Stantonsburg, Wilson County (Unincorporated Areas)
| Approximately 550 feet downstream of Wilson/Nash County boundary | None | •140 |
Tributary 2 | At the confluence with Lake Wilson/Toisnot Swamp | None | •120 | City of Wilson, Wilson County (Unincorporated Areas)
| Approximately 400 feet upstream of Rutgen Road | None | •137 |
Turkey Creek | Approximately 100 feet downstream of Narron Road | None | •152 | Wilson County (Unincorporated Areas)
| Approximately 100 feet downstream of the Wilson/Nash County boundary | None | •155 |
Turner Swamp | At the confluence with Contentnea Creek | •68 | •67 | Wilson County (Unincorporated Areas)
| At the Wilson/Wayne County boundary | None | •76 |
Ward Run | At the Wilson/Pitt County boundary | None | •92 | Wilson County (Unincorporated Areas)
| Approximately 1.3 miles upstream of the Wilson/Pitt County boundary | None | •98 |
Whiteoak Swamp | Approximately 0.5 mile downstream of U.S. Highway 264 | None | •76 | Wilson County (Unincorporated Areas)
| Approximately 2.5 miles upstream of Gardners School Road | None | •97 |
Juniper Creek | Approximately 1,200 feet upstream of the confluence of Bloomery Swamp | None | •157 | Wilson County (Unincorporated Areas)
| Approximately 1,500 feet upstream of Green Pond Road | None | •183 |
Lee Swamp | At the confluence with Black Creek | None | •106 | Town of Lucama, Wilson County (Unincorporated Areas)
| Approximately 0.4 mile upstream of Highway 301 | None | •119 |
Little Contentnea Creek | At the Wilson/Greene County boundary | None | •87 | Wilson County (Unincorporated Areas)
| Approximately 1.2 miles upstream of Eagle Cross Road | None | •91 |
Mill Branch | At the confluence with White Oak Swamp | None | •83 | Wilson County (Unincorporated Areas)
| Approximately 1.5 miles upstream of the confluence with White Oak Swamp | None | •96 | None
Millstone Creek | Approximately 500 feet upstream of Countryside Road | None | •159 | City of Wilson, Town of Sims, Wilson County (Unincorporated Areas)
| Approximately 1,000 feet upstream of railroad | None | •195 |
Moccasin Creek | Approximately 0.6 mile upstream of Highway 581 | None | •137 | Wilson County (Unincorporated Areas)
| At the Wilson/Nash/Johnston County boundary | None | •158 |
Robin Swamp | At the confluence with Black Creek | None | •129 | Wilson County (Unincorporated Areas)
| Approximately 0.4 mile upstream of Newsome Mill Road | None | •139 |
Town of Black Creek
Maps available for inspection at the Town of Black Creek Zoning Administration, 112 West Center Street, Black Creek, North Carolina.
Send comments to The Honorable Ralph Smith, Mayor of the Town of Black Creek, P.O. Box 8, Black Creek, North Carolina 27813.
Town of Elm City
Maps available for inspection at the Elm City Town Hall, 117 South Railroad Street, Elm City, North Carolina.
Send comments to The Honorable Grady Smith, Mayor of the Town of Elm City, P.O. Box 717, Elm City, North Carolina 27822.
Town of Lucama
Maps available for inspection at the Lucama Town Clerk's Office, 111 South Main Street, Lucama, North Carolina.
Send comments to The Honorable Virginia Johnson, Mayor of the Town of Lucama, P.O. Box 127, Lucama, North Carolina 27851.
Town of Sims
Maps available for inspection at the Sims Town Hall, 6402 U.S. 264A, Sims, North Carolina.
Send comments to The Honorable Susan Evans, Mayor of the Town of Sims, P.O. Box 161, Sims, North Carolina 27880.
Town of Stantonsburg
Maps available for inspection at the Stantonsburg Town Hall, 108 East Commercial Avenue, Stantonsburg, North Carolina.
Send comments to The Honorable Roland Gardner, Mayor of the Town of Stantonsburg, P.O. Box 10, Stantonsburg, North Carolina 27883.
City of Wilson
Maps available for inspection at the Wilson Development Services Department, 112 North Goldsboro Street, Wilson, North Carolina.
Send comments to The Honorable C. Bruce Rose, Mayor of the City of Wilson, P.O. Box 10, Wilson, North Carolina 27894.
Wilson County (Unincorporated Areas)
Maps available for inspection at the Wilson County Mapping Department, 101 North Goldsboro, Wilson, North Carolina.
Send comments to Mr. Ellis Williford, Wilson County Manager, P.O. Box 1728, Wilson, North Carolina 27894.

(Catalog of Federal Domestic Assistance No. 83.100, “Flood Insurance”)
Dated: June 18, 2003.
Anthony S. Lowe,
Mitigation Division Director, Emergency Preparedness and Response Directorate.

[FR Doc. 03-16288 Filed 6-26-03; 8:45 am]

BILLING CODE 6718-04-P